DEPARTMENT OF AGRICULTURE

Forest Service

Santa Fe National Forest; New Mexico; Oil and Gas Leasing Forest Plan Amendment and Road Management

AGENCY: Forest Service, USDA.

ACTION: Notice of intent to prepare an environmental impact statement.

SUMMARY: The proposed action is intended to update the Santa Fe National Forest Plan by identifying stipulations on new oil and gas leases where needed to protect surface resources. The proposal also includes a new standard and guideline describing criteria for developing conditions of approval for oil and gas development, consistent with existing policies. A related action, designating specific roads to be decommissioned or closed on Cuba Ranger District, will be considered because they require unnecessary maintenance costs, pose a risk to sensitive resources, and/or risk exceeding current Forest Plan road density standards.

DATES: Comments concerning the scope of the analysis must be received by October 20, 2004. The draft environmental impact statement (EIS) is expected July 2005 and the final environmental impact statement is expected April 2006.

ADDRESSES: Send written comments to: Ellen Dietrich, Project Manager, SAIC, 2109 Air Park Road SE., Albuquerque, NM 87106.

FOR FURTHER INFORMATION CONTACT: Ellen Dietrich, Project Manager, SAIC, 2109 Air Park Road SE., Albuquerque, NM 87106; telephone (505) 842-7845.

SUPPLEMENTARY INFORMATION:

Purpose and Need for Action

There is a need to have a more specific and up-to-date description of leasing availability and stipulations identified in the Forest Plan, as well as more comprehensive National Environmental Policy Act (NEPA) analysis of the potential cumulative effects of reasonably foreseeable future oil and gas leasing and development on the Santa Fe National Forest (SFNF). This is needed to meet the regulations at 36 CFR 228.102 regarding Forest Plan leasing analysis and decisions and the agency's policy to minimize impacts to surface resources while facilitating orderly development of oil and gas resources. The NEPA analysis (EIS) would address the Expressions of Interest in leasing specific areas that have been received by the SFNF.

The purpose and need for decommissioning certain roads on the Cuba Ranger District is to have the minimum system of open and closed roads required to meet the Forest Service Roads Policy, road densities within Forest Plan standards and guidelines, and roads that do not pose an unacceptable risk of damage to wildlife or fish habitat, watershed health, or other surface resources.

The objectives of the amendment are to:

(1) Improve the programmatic analysis of the effects of oil and gas leasing and development on the SFNF, including a cumulative effects analysis.

(2) Improve the timeliness and efficiency in processing current and future Expressions of Interest in oil and gas leasing on the SFNF, consistent with the national energy policy.

(3) Improve the agency's ability to protect surface resources that may not be adequately addressed by standard leasing terms and conditions.

(4) Meet Forest Plan road density standards and identify which Cuba Ranger District roads would be decommissioned or closed because they are in excess of minimum road system needs for public or administrative use, private land access, or oil and gas operations.

The current Forest Plan oil and gas leasing availability categories were developed in 1979-1982 with limited inventory data or analysis. The 1987 Forest Plan leasing direction is too broad and does not reflect current resource concerns within the study area. For example, the Forest Plan does not identify the timing limitations now required for activities within the nesting habitats of Federal threatened or endangered species that occur in the study area: Mexican spotted owl (threatened), northern goshawk (sensitive), and peregrine falcon (sensitive). It does not identify any stipulations for protecting riparian areas, unstable steep slopes, significant scenic corridors or historic sites, or other resources that may not be adequately protected under standard leasing terms and conditions. Most of the oil or gas leases on the SFNF were issued prior to 1970 (prior to passage of NEPA or the National Forest Management Act), and oil-gas leasing and development in the San Juan Basin was authorized without full consideration of potential cumulative effects on surface resources.

Overall, the Forest Plan needs to be amended so it can be used when providing agency approval to BLM for issuing new leases on SFNF lands. There is a need to complete this amendment now rather than waiting for Forest Plan revision, which will not be completed until at least 2009. The SFNF has three “Expressions of Interest” in oil-gas leasing on the SFNF, and over 50% of the Forest has not yet been leased. The proposed amendment would not affect existing or transferred leases, and would only apply to new leases that may be issued in the future.

Proposed Action

The proposed action is to update the Forest Plan in terms of oil and gas leasing availability by reviewing and refining the current Forest Plan leasing analysis and decision, in addition to adding specific stipulations of “no surface occupancy,” “controlled surface use,” or “timing limitation” where needed to protect surface resources. The proposed stipulations describe specific limitations regarding surface occupancy or use, their purpose, and the location and/or conditions under which they apply. The proposed action would only apply to new leases, not existing leases.

The NEPA analysis for the proposed amendment will evaluate existing Expressions of Interest received from the oil and gas industry in order to provide timely recommendations to Bureau of Land Management (BLM) for issuing oil or gas leases on those SFNF lands.

New proposed stipulations include: timing limitations to protect spotted owl, northern goshawk, peregrine falcon habitats; controlled surface use for certain riparian, inventoried roadless, and scenic areas; and no surface occupancy for certain unstable slopes, roadless recreation areas, and specific heritage resource sites.

The proposal does not include any conditions of approval or mitigation measures, which are developed and applied during 2nd level NEPA analysis for Applications for Permits to Drill (APD). However, the proposal includes a Forest Plan standard/guideline that requires consistency with existing BLM and Forest Service policies for conditions of approval in the San Juan Basin (e.g., for noise, air quality, reclamation, visual quality).

The proposal also includes designating specific roads to be decommissioned or closed because they require unnecessary maintenance costs and pose a risk of impacts to sensitive resources, and/or risk exceeding Forest Plan road density standards. All roads on Cuba Ranger District will be considered, including the small portion outside the oil and gas study area, as they form a connected and interrelated travel network. Where the Coyote Ranger District overlaps the northeast portion of the oil and gas study area, the analysis will consider the cumulative effects of the Coyote Ranger District's Road Decommissioning and Closure EA and NEPA decision (expected to be completed in the fall of 2004).

Lead and Cooperating Agencies

The USDA Forest Service is the lead agency and the USDI Bureau of Land Management is a cooperating agency in the preparation of this EIS.

Responsible Official

Gilbert Zepeda, Forest Supervisor, Santa Fe National Forest, 1474 Rodeo Road, Santa Fe, NM 87505-5630.

Nature of Decisions To Be Made

(1a) In accordance with 36 CFR 228.102, the Forest Supervisor will decide which areas will be:

(i) Open to development subject to standard oil and gas leasing terms and conditions.

(ii) Open to development but subject to constraints that will require the use of lease stipulations such as No Surface Occupancy or specific Controlled Surface Use constraints, with discussion as to why the constraints are necessary and justifiable.

(iii) Closed to leasing due to a specific law or regulation or Forest Service policy.

(1b) The Forest Supervisor will decide under what conditions the Forest Service will authorize the Bureau of Land Management to modify, waive, or grant an exception to a stipulation.

(1c) Per leasing analysis requirements in 36 CFR 228.102, the Forest Supervisor will consider: (i) Alternatives to the proposal, including that of: (a) Not allowing leasing; and (b) not changing current Forest Plan leasing standards/guidelines. (ii) The type and amount of post-leasing activity and associated cumulative impacts, consistent with a reasonably foreseeable oil-gas development scenario.

(2) For specific areas currently being considered for leasing, the Forest Supervisor will determine whether oil or gas leasing would be consistent with the amended Forest Plan, and if so, will authorize the Bureau of Land Management to offer those specific lands for lease.

(3) The District Ranger for the Cuba Ranger District will make a separate project-level NEPA decision as to which roads, if any, would be authorized for decommissioning or closure, consistent with the Forest Service Roads Policy.

Scoping Process

After publication of the Notice of Intent, a scoping letter describing the purpose and need for the project and the proposed action will be sent to a broad list of people who are likely to be interested in the EIS and the decisions to be made. During the scoping comment period and following distribution of the scoping letter, meetings will be held in Cuba and Santa Fe, New Mexico, with a focus on addressing questions and concerns. The Forest Service will also meet with agencies, organizations or groups in other areas upon their request. Concerns regarding any of the proposed actions or decisions to be made may be mailed to SAIC (address above) or provided during the meetings. These comments will be reviewed and considered in the development and evaluation of alternatives in the EIS.

Preliminary Issues To Be Addressed in the EIS

Resource Protection: The EIS will address how proposed new leasing stipulations (and each alternative) would affect the protection of resources, such as archaeological resources, special status wildlife species, roadless areas, air quality, and water resources.

Oil-Gas Operations Constraints: The EIS will address how proposed new leasing stipulations (and each alternative) would affect oil and gas company operations on any new lease issued after the Forest Plan amendment is approved.

Comment Requested

This notice of intent initiates the scoping process, which guides the development of the environmental impact statement.

Early Notice of Importance of Public Participation in Subsequent Environmental Review

A draft environmental impact statement will be prepared for comment. The comment period on the draft environmental impact statement will be 90 days from the date the Environmental Protection Agency publishes the notice of availability of the DEIS in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 15-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 24, 2004.
Judy Dinwiddie,
Acting Forest Supervisor.

[FR Doc. 04-21915 Filed 9-29-04; 8:45 am]

BILLING CODE 3410-11-P